DEPARTMENT OF DEFENSE

Office of the Secretary

Open Meeting To Obtain Input for 2013 DoD 10 Key State Issues Impacting Service Members and Their Families

AGENCY: Department of Defense.

ACTION: Notice.

SUMMARY: The public is invited to attend an open session to consider issues impacting Service members and their families that can best be resolved by state governments. Additionally, the public is invited to submit issues in writing to the Department of Defense in lieu of attending the open session.

DATES: Open session meeting is scheduled for 1:00 p.m. to 3:00 p.m., June 5, 2012. RSVPs for individuals who are not military or civilian personnel in the Department of Defense must be received by close of business, June 1, 2012. Individuals who have submitted an RSVP must be present at the Pentagon Visitors' Reception Area not later than 12:30 p.m., June 5, 2012. Written submissions must be received by close of business June 8, 2012.

ADDRESSES: Submit RSVPs and written responses to either marcus.beauregard@osd.mil or 4000 Defense Pentagon Room 5A726, Washington, DC 20301-2400. The Pentagon Visitors' Reception Area is accessible by way of the Pentagon Metro Station entrance. The open session meeting will be held in the Pentagon Conference Center, Room M-2.

FOR FURTHER INFORMATION CONTACT: Marcus Beauregard, 571-372-5357.

SUPPLEMENTARY INFORMATION: Each year, DoD selects 10 issues for states to consider that represent barriers resulting from the transience and uncertainty of military life. For example, DoD has asked states to consider remedies to improve school transition for children in active duty military families to overcome problems with records transfer, class and course placement, qualifying for extra-curricular activities, and fulfilling graduation requirements.

The RSVP must include the following information: Name, date of birth and Social Security Number. RSVPs submitted by email must be encrypted.

Individuals attending the meeting who do not have a Pentagon ID must first proceed through the Guard Station (plan approximately an additional 10 minutes to access the reception area). Individuals must have two forms of personal identification, one of which must be provided by the Government and have a photograph (such as military ID, driver's license or passport).

Written inputs should include the following information:

A. Issue title.

B. Description of the issue to include a description of the policy or practice, the impact and who is impacted by this issue.

C. Description of the potential solution to this issue, to include whether the issue can be corrected through a change in state procedures, state regulations or state statute.

D. Estimate of whether the proposed solution would cost the state additional funding, and if so an approximation of how much.

E. Your contact information so that we can follow-up if we need any clarifications.

Dated: May 16, 2012.
Patricia L. Toppings,
OSD Federal Register, Liaison Officer, Department of Defense.

[FR Doc. 2012-12419 Filed 5-22-12; 8:45 am]

BILLING CODE 5001-06-P